ENVIRONMENTAL PROTECTION AGENCY

[OPP-2002-0164; FRL-7189-9]

Pesticide Emergency Exemptions; Agency Decisions and State and Federal Agency Crisis Declarations

AGENCY: Environmental Protection Agency (EPA).

ACTION: Notice.

SUMMARY: EPA has granted or denied emergency exemptions under the Federal Insecticide, Fungicide, and Rodenticide Act (FIFRA) for use of pesticides as listed in this notice. The exemptions or denials were granted during the period April 1, 2002 to June 30, 2002, to control unforseen pest outbreaks.

FOR FURTHER INFORMATION CONTACT: See each emergency exemption or denial for the name of a contact person. The following information applies to all contact persons: Team Leader, Emergency Response Team, Registration Division (7505C), Office of Pesticide Programs, Environmental Protection Agency, 1200 Pennsylvania Ave., NW., Washington, DC 20460; telephone number: (703) 308-9366.

SUPPLEMENTARY INFORMATION: EPA has granted or denied emergency exemptions to the following State and Federal agencies. The emergency exemptions may take the following form: Crisis, public health, quarantine, or specific. EPA has also listed denied emergency exemption requests in this notice.

I. General Information

A. Does this Action Apply to Me?

You may be potentially affected by this action if you petition EPA for authorization under section 18 of FIFRA to use pesticide products which are otherwise unavailable for a given use. Potentially affected categories and entities may include, but are not limited to:

Categories | NAICS codes | Examples of potentially affected entities
Federal Government State and Territorial government agencies charged with pesticide authority | 9241 | Federal agencies that petition EPA for section 18 pesticide use authorization State agencies that petition EPA for section 18 pesticide use authorization

This listing is not intended to be exhaustive, but rather provides a guide for readers regarding entities likely to be regulated by this action. Other types of entities not listed in the table in this unit could also be regulated. The North American Industrial Classification System (NAICS) codes have been provided to assist you and others in determining whether or not this action applies to certain entities. If you have any questions regarding the applicability of this action to a particular entity, consult the person listed under FOR FURTHER INFORMATION CONTACT.

B. How Can I Get Additional Information or Copies of this Document or Other Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

2. In person. The Agency has established an official record for this action under docket ID number OPP-2002-0164. The official record consists of the documents specifically referenced in this action, and other information related to this action, including any information claimed as Confidential Business Information (CBI). This official record includes the documents that are physically located in the docket, as well as the documents that are referenced in those documents. The public version of the official record does not include any information claimed as CBI. The public version of the official record, which includes printed, paper versions of any electronic comments submitted during an applicable comment period is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. Background

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are a particular form of specific exemption issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption or denial, the type of exemption, the pesticide authorized and the pests, the crop or use for which authorized, number of acres (if applicable), and the duration of the exemption. EPA also gives the Federal Register citation for the time-limited tolerance, if any.

III. Emergency Exemptions and Denials

A. U. S. States and Territories

Arkansas

State Plant Board

Crisis: On May 29, 2002, for the use of sodium chlorate on wheat as a desiccant/defoliant. This program ended on/is expected to end on June 13, 2002. Contact: Libby Pemberton

Specific: EPA authorized the use of fomesafen on snap beans to control various weed species; April 1, 2002 to September 15, 2002. Contact: Andrea Conrath

EPA authorized the use of methoxyfenozide on soybeans to control saltmarsh caterpillars and armyworms; May 28, 2002 to October 30, 2002. Contact: Barbara Madden

EPA authorized the use of diuron on catfish ponds to control blue-green algae; June 11, 2002 to September 30, 2002. Contact: Libby Pemberton

California

Environmental Protection Agency, Department of Pesticide Regulation

Specific: EPA authorized the use of fludioxonil on pomegranates to control gray mold; August 1, 2002 to December 15, 2002. Contact: Andrew Ertman

EPA authorized the use of avermecton on basil to control leafminers; July 1, 2002 to October 31, 2002. This request was granted because emergency conditions still exist and there are no registered or unregistered alternatives available. Contact: Barbara Madden

EPA authorized the use of myclobutanil on artichoke to control powdery mildew; August 18, 2002 to August 17, 2003. Contact: Barbara Madden

Colorado

Department of Agriculture

Crisis: On June 14, 2002, for the use of clopyralid on canola to control weeds. This program ended on/is expected to end on August 1, 2002. Contact: Libby Pemberton

Specific: EPA authorized the use of dimethenamid-p on sugar beets to control various nightshade species, lambsquarter, redroot pigweed, barnyardgrass and the suppression of ALS-resistant kochia ; April 9, 2002 to August 1, 2002. Contact: Barbara Madden

EPA authorized the use of sulfentrazone on chickpeas to control broadleaf weeds; April 24, 2002 to June 30, 2002. Contact: Andrew Ertman

EPA authorized the use of lambda-cyhalothrin on barley to control Russian wheat aphids; May 8, 2002 to July 15, 2002. Contact: Andrew Ertman

EPA authorized the use of tetraconazole on sugarbeet to control Cercospora; May 29, 2002 to September 30, 2002. Contact: Andrea Conrath

EPA authorized the use of sulfentrazone on potatoes to control broadleaf weeds; June 4, 2002 to July 1, 2002. Contact: Andrew Ertman

EPA authorized the use of propiconazole on dry beans to control rust; June 18, 2002 to August 31, 2002. Contact: Andrea Conrath

EPA authorized the use of tebuconazole on sunflowers to control rust; July 1, 2002 to August 25, 2002. Contact: Barbara Madden

Connecticut

Department of Environmental Protection

Public Health: EPA authorized the use of fipronil in a rodent bait box system to control immature blacklegged ticks which are vectors for Lyme disease. Lyme disease is a serious public health concern. Lyme disease is caused by the bacterium, Borrelia burgdorferi. These bacteria are transmitted to humans by the bite of infected deer ticks and cause more than 16,000 infections in the United States each year. Lyme disease is spread by the bite of ticks of the genus Ixodes that are infected with Borrelia burgdorferi.; April 26, 2002 to December 31, 2002. Contact: Barbara Madden

Specific: EPA authorized the use of thiophanate methyl on blueberries to control various fungal diseases; May 6, 2002 to September 30, 2002. Contact: Andrea Conrath

EPA authorized the use of imidacloprid on blueberries to control oriental beetles; May 15, 2002 to August 15, 2002. Contact: Andrew Ertman

Delaware

Department of Agriculture

Specific: EPA authorized the use of fomesafen on snap beans to control various weed species; April 1, 2002 to October 1, 2002. Contact: Andrea Conrath

EPA authorized the use of dimethomorph on cantaloupes, cucumbers, watermelons, and squash (summer, winter, and pumpkins) to control Phytophthora capsici; April 25, 2002 to September 30, 2002. Contact: Libby Pemberton

Florida

Department of Agriculture and Consumer Services

Specific: EPA authorized the use of carfentrazone-ethyl on fruiting vegetables (except cucurbits) to control Paraquat resistant nightshade, purslane and morningglory; May 31, 2002 to May 30, 2003. Contact: Barbara Madden

EPA authorized the use of fenbuconazole on blueberries to control Septoria leaf spot and rust; May 31, 2002 to May 30, 2003. Contact: Barbara Madden

EPA authorized the use of halosulfuron-methyl on tomatoes to control purple nutsedge (Cyperus rotundis L.) and yellow nutsedge (Cyperus esculentus L.); June 5, 2002 to June 4, 2003. Contact: Barbara Madden

Georgia

Department of Agriculture

Specific: EPA authorized the use of halosulfuron-methyl on tomatoes to control purple nutsedge (Cyperus rotundis L.) and yellow nutsedge (Cyperus esculentus L.); June 5, 2002 to June 4, 2003. Contact: Barbara Madden

Hawaii

Department of Agriculture

Specific: EPA authorized the use of hydramethylnon on pineapple to control big-headed and Argentine ants; May 31, 2002 to May 31, 2003. Contact: Libby Pemberton

Idaho

Department of Agriculture

Denial: On May 7, 2002 EPA denied the use of dimethenamid-p on potatoes to control hairy nightshade. This request was denied because the situation as described does not meet the criteria for an urgent, non-routine situation because an adequate alternative is available. Contact: Barbara Madden

Specific: EPA authorized the use of cymoxanil on hops to control downy mildew; April 3, 2002 to September 15, 2003. Contact: Libby Pemberton

EPA authorized the use of thiabendazole on lentils to control Ascochyta blight; April 23, 2002 to June 1, 2002. Contact: Andrea Conrath

EPA authorized the use of dimethenamid-p on sugar beets to control hairy nightshade, redroot pigweed, and yellow nutsedge; April 26, 2002 to July 15, 2002. Contact: Barbara Madden

EPA authorized the use of zinc phosphide on potato, sugarbeet, wheat, and barley to control mice and voles; May 6, 2002 to October 1, 2002. Contact: Libby Pemberton

EPA authorized the use of fluroxypyr on sweet corn and field corn to control volunteer potatoes; May 20, 2002 to August 1, 2002. Contact: Andrew Ertman

EPA authorized the use of lambda-cyhalothrin on barley to control Russian wheat aphids; May 22, 2002 to July 30, 2002. Contact: Andrew Ertman

EPA authorized the use of fenpyroximate on hops to control two-spotted spider mites; June 11, 2002 to September 15, 2002. Contact: Andrea Conrath

EPA authorized the use of clopyralid on canola to control Canada thistle; June 25, 2002 to July 31, 2002. Contact: Libby Pemberton

EPA authorized the use of myclobutanil on sugar beets to control powdery mildew; July 5, 2002 to September 15, 2002. Contact: Barbara Madden

Illinois

Department of Agriculture

Specific: EPA authorized the use of fomesafen on snap beans to control various weed species; April 1, 2002 to August 31, 2002. Contact: Andrea Conrath

EPA authorized the use of sulfentrazone on horseradish to control broadleaf weeds; April 15, 2002 to July 15, 2002. Contact: Andrew Ertman

Indiana

Office of Indiana State Chemist

Specific: EPA authorized the use of fomesafen on snap beans to control various weed species; May 6, 2002 to September 1, 2002. Contact: Andrea Conrath

Kansas

Department of Agriculture

Specific: EPA authorized the use of metsulfuron-methyl on sorghum to control various weed species; April 30, 2002 to July 31, 2002. Contact: Andrew Ertman

EPA authorized the use of thiophanate methyl on blueberries to control various fungal diseases; May 6, 2002 to September 30, 2002. Contact: Andrea Conrath

EPA authorized the use of propiconazole on sorghum to control sorghum ergot; June 13, 2002 to June 12, 2003. Contact: Barbara Madden

EPA authorized the use of propiconazole on dry beans to control rust; June 18, 2002 to August 15, 2002. Contact: Andrea Conrath

Louisiana

Department of Agriculture and Forestry

Crisis: EPA authorized the use of methoxyfenozide on soybeans to control saltmarsh caterpillars, armyworms, and soybean loopers; June 13, 2002 to September 30, 2002. Contact: Barbara Madden

Specific: EPA authorized the use of emamectin benzoate on cotton to control beet armyworm and tobacco budworm; June 21, 2002 to September 30, 2002. Contact: Andrea Conrath

Maine

Department of Agriculture, Food, and Rural Resources

Specific: EPA authorized the use of fomesafen on dry beans to control various weed species; May 6, 2002 to July 15, 2002. Contact: Andrea Conrath

EPA authorized the use of tebufenozide on pasture to control armyworms; June 28, 2002 to October 31, 2002. This request was granted because IR-4 is currently conducting residue field trials for use of methoxyfenozide on pasture to control armyworms. However, the state was granted the use of tebufenozide instead of methoxyfenozide due to history of successful use of tebufenozide to control armyworm in pastures; and Dow AgroSciences anticipates only a limited supply of methoxyfenozide would be available to treat pastures for the 2002 growing season. Contact: Barbara Madden

Maryland

Department of Agriculture

Specific: EPA authorized the use of fomesafen on snap beans to control various weed species; April 1, 2002 to September 15, 2002. Contact: Andrea Conrath

EPA authorized the use of terbacil on watermelons to control broadleaf weeds; April 4, 2002 to June 25, 2002. Contact: Dan Rosenblatt

Massachusetts

Massachusetts Department of Food and Agriculture

Specific: EPA authorized the use of fenbuconazole on blueberries to control Mummyberry disease; May 17, 2002 to June 30, 2002. Contact: Barbara Madden

Michigan

Michigan Department of Agriculture

Specific: EPA authorized the use of dimethomorph on cantaloupes, cucumbers, watermelons, and squash (summer, winter, and pumpkins) to control Phytophthora capsici; April 9, 2002 to November 1, 2002. Contact: Libby Pemberton

EPA authorized the use of thiophanate methyl on blueberries to control various fungal diseases; May 6, 2002 to September 30, 2002. Contact: Andrea Conrath

EPA authorized the use of fomesafen on dry beans to control various weed species; May 6, 2002 to August 15, 2002. Contact: Andrea Conrath

EPA authorized the use of fomesafen on snap beans to control various weed species; May 6, 2002 to August 30, 2002. Contact: Andrea Conrath

EPA authorized the use of tebuconazole on asparagus to control rust; May 7, 2002 to November 1, 2002. Contact: Barbara Madden

EPA authorized the use of tebuconazole on wheat to control Fusarium head blight; May 17, 2002 to June 15, 2002. Contact: Barbara Madden

EPA authorized the use of tetraconazole on sugarbeet to control Cercospora; May 29, 2002 to September 30, 2002. Contact: Andrea Conrath

Minnesota

Department of Agriculture

Specific: EPA authorized the use of fomesafen on dry beans to control various weed species; April 1, 2002 to August 15, 2002. Contact: Andrea Conrath

EPA authorized the use of dimethenamid-p on sugar beets to control waterhemp and Powell amaranth; April 9, 2002 to August 1, 2002. Contact: Barbara Madden

EPA authorized the use of sulfentrazone on horseradish to control broadleaf weeds; April 15, 2002 to July 15, 2002. Contact: Andrew Ertman

EPA authorized the use of propiconazole on dry beans to control rust; June 18, 2002 to August 31, 2002. Contact: Andrea Conrath

Mississippi

Department of Agriculture and Commerce

Specific: EPA authorized the use of methoxyfenozide on soybeans to control saltmarsh caterpillars and armyworms; May 28, 2002 to October 30, 2002. Contact: Barbara Madden

EPA authorized the use of methoxyfenozide on field corn to control Southwestern corn borer; July 1, 2002 to September 30, 2002. Contact: Barbara Madden

Missouri

Department of Agriculture

Specific: EPA authorized the use of fomesafen on snap beans to control various weed species; April 1, 2002 to September 10, 2002. Contact: Andrea Conrath

Montana

Department of Agriculture

Specific: EPA authorized the use of clopyralid on canola to control Canada thistle and perennial sowthistle; April 9, 2002 to July 31, 2002. Contact: Libby Pemberton

EPA authorized the use of sulfentrazone on chickpeas and dried peas to control kochia; April 9, 2002 to June 30, 2002. Contact: Andrew Ertman

EPA authorized the use of thiabendazole on lentils to control Ascochyta blight; April 10, 2002 to June 1, 2002. Contact: Andrea Conrath

EPA authorized the use of lambda-cyhalothrin on barley to control cutworms; May 22, 2002 to July 1, 2002. Contact: Andrew Ertman

EPA authorized the use of sethoxydim on safflower to control wild oats; June 28, 2002 to July 31, 2002. Contact: Libby Pemberton

Nebraska

Department of Agriculture

Specific: EPA authorized the use of dimethenamid-p on sugar beets to control nightshade, redroot pigweed and ALS-resistant kochia; April 9, 2002 to August 1, 2002. Contact: Barbara Madden

EPA authorized the use of sulfentrazone on chickpeas to control broadleaf weeds; April 12, 2002 to July 1, 2002. Contact: Andrew Ertman

EPA authorized the use of metsulfuron-methyl on sorghum to control various weed species; April 30, 2002 to August 15, 2002. Contact: Andrew Ertman

EPA authorized the use of sulfentrazone on potatoes to control broadleaf weeds; May 21, 2002 to July 1, 2002. Contact: Andrew Ertman

EPA authorized the use of tetraconazole on sugarbeet to control Cercospora; May 29, 2002 to September 30, 2002. Contact: Andrea Conrath

Nevada

Department of Agriculture

Denial: On June 4, 2002 EPA denied the use of bromoxynil on pasture to control weeds. This request was denied because the situation, as described did not meet the criteria for an urgent, non-routine situation. The situation appears to be a chronic weed control situation. Contact: Barbara Madden

New Hampshire

Department of Agriculture

Specific: EPA authorized the use of propiconazole on blueberries to control mummyberry disease; May 24, 2002 to June 30, 2002. Contact: Barbara Madden

New Jersey

Department of Environmental Protection

Public Health: EPA authorized the use of fipronil in a rodent bait box system to control immature blacklegged ticks which are vectors for Lyme disease. Lyme disease is a serious public health concern. Lyme disease is caused by the bacterium, Borrelia burgdorferi. These bacteria are transmitted to humans by the bite of infected deer ticks and cause more than 16,000 infections in the United States each year. Lyme disease is spread by the bite of ticks of the genus Ixodes that are infected with Borrelia burgdorferi. May 8, 2002 to December 31, 2002. Contact: Barbara Madden

Specific: EPA authorized the use of dimethomorph on cantaloupes, cucumbers, watermelons, and squash (summer, winter, and pumpkins) to control Phytophthora capsici; April 25, 2002 to October 31, 2002. Contact: Libby Pemberton

EPA authorized the use of thiophanate methyl on blueberries to control various fungal diseases; May 6, 2002 to September 30, 2002. Contact: Andrea Conrath

EPA authorized the use of imidacloprid on blueberries to control blueberry aphids; May 7, 2002 to August 10, 2002. Contact: Andrew Ertman

EPA authorized the use of imidacloprid on blueberries to control oriental beetles; May 15, 2002 to September 15, 2002. Contact: Andrew Ertman

EPA authorized the use of clopyralid on cranberries to control wild bean; May 23, 2002 to December 1, 2002. Contact: Libby Pemberton

EPA authorized the use of fludioxonil on peaches and nectarines to control brown rot, gray mold, and Rhizopus rot; July 1, 2002 to September 30, 2002. Contact: Andrew Ertman

New Mexico

Department of Agriculture

Specific: EPA authorized the use of emamectin benzoate on cotton to control beet armyworm; May 13, 2002 to October 31, 2002. Contact: Andrea Conrath

EPA authorized the use of spinosad on alfalfa to control beet armyworms; May 17, 2002 to November 1, 2002. Contact: Andrew Ertman

EPA authorized the use of spinosad on peanuts to control lepidopteran larvae; June 15, 2002 to October 30, 2002. Contact: Andrew Ertman

EPA authorized the use of myclobutanil on peppers to control powdery mildew; July 1, 2002 to October 15, 2002. Contact: Barbara Madden

New York

Department of Environmental Conservation

Public Health: EPA authorized the use of fipronil in a rodent bait box system to control immature blacklegged ticks which are vectors for Lyme disease. Lyme disease is a serious public health concern. Lyme disease is caused by the bacterium, Borrelia burgdorferi. These bacteria are transmitted to humans by the bite of infected deer ticks and cause more than 16,000 infections in the United States each year. Lyme disease is spread by the bite of ticks of the genus Ixodes that are infected with Borrelia burgdorferi. June 7, 2002 to December 31, 2002. Contact: Barbara Madden

Specific: EPA authorized the use of fomesafen on snap and dry beans to control various weed species; April 1, 2002 to August 30, 2002. Contact: Andrea Conrath

EPA authorized the use of thiophanate methyl on blueberries to control various fungal diseases; May 6, 2002 to September 30, 2002. Contact: Andrea Conrath

North Dakota

Department of Agriculture

Crisis: On May 31, 2002, for the use of zeta-cypermethrin on mustard to control crucifer flea beetles. This program ended on/is expected to end on June 14, 2002. Contact: Libby Pemberton

Specific: EPA authorized the use of fomesafen on dry beans to control various weed species; April 1, 2002 to August 15, 2002. Contact: Andrea Conrath

EPA authorized the use of sulfentrazone on flax to control kochia and ALS-resistant kochia; April 1, 2002 to June 30, 2002. Contact: Andrew Ertman

EPA authorized the use of dimethenamid-p on sugar beets to control waterhemp and Powell amaranth; April 9, 2002 to August 1, 2002. Contact: Barbara Madden

EPA authorized the use of thiabendazole on lentils to control Ascochyta blight; April 10, 2002 to June 1, 2002. Contact: Andrea Conrath

EPA authorized the use of clopyralid on flax to control Canada thistle and perennial sowthistle; May 10, 2002 to July 31, 2002. Contact: Libby Pemberton

EPA authorized the use of sethoxydim on no till or reduced tillage safflower to control wild oat; May 29, 2002 to July 31, 2002. Contact: Libby Pemberton

EPA authorized the use of propiconazole on dry beans to control rust; June 18, 2002 to August 31, 2002. Contact: Andrea Conrath

Ohio

Department of Agriculture

Specific: EPA authorized the use of thiophanate methyl on blueberries to control various fungal diseases; May 6, 2002 to September 30, 2002. Contact: Andrea Conrath

Oklahoma

Department of Agriculture

Specific: EPA authorized the use of fomesafen on snap beans to control various weed species; April 1, 2002 to September 10, 2002. Contact: Andrea Conrath

EPA authorized the use of emamectin benzoate on cotton to control beet armyworm; May 13, 2002 to October 31, 2002. Contact: Andrea Conrath

EPA authorized the use of spinosad on peanuts to control lepidopteran larvae; June 15, 2002 to October 30, 2002. Contact: Andrew Ertman

Oregon

Department of Agriculture

Specific: EPA authorized the use of cymoxanil on hops to control downy mildew; April 3, 2002 to September 15, 2003. Contact: Libby Pemberton

EPA authorized the use of thiabendazole on lentils to control Ascochyta blight; April 10, 2002 to June 1, 2002. Contact: Andrea Conrath

EPA authorized the use of cyprodinil and fludioxonil on caneberries to control gray mold; April 19, 2002 to September 15, 2002. Contact: Libby Pemberton

EPA authorized the use of halosulfuron-methyl on asparagus to control yellow nutsedge; April 25, 2002 to July 15, 2002. Contact: Andrew Ertman

EPA authorized the use of dimethenamid-p on sugar beets to control hairy nightshade, redroot pigweed, and yellow nutsedge; April 26, 2002 to July 15, 2002. Contact: Barbara Madden

EPA authorized the use of triazamate on true fir Christmas trees to control root aphids; May 9, 2002 to October 31, 2002. Contact: Barbara Madden

EPA authorized the use of fluroxypyr on sweet corn and field corn to control volunteer potatoes; May 13, 2002 to August 1, 2002. Contact: Andrew Ertman

EPA authorized the use of tebuconazole on hops to control powdery mildew; June 15, 2002 to September 22, 2002. Contact: Barbara Madden

EPA authorized the use of clopyralid on canola to control Canada thistle; June 25, 2002 to July 31, 2002. Contact: Libby Pemberton

EPA authorized the use of myclobutanil on sugar beets to control powdery mildew; July 5, 2002 to September 15, 2002. Contact: Barbara Madden

Pennsylvania

Department of Agriculture

Specific: EPA authorized the use of thiophanate methyl on blueberries to control various fungal diseases; May 6, 2002 to September 30, 2002. Contact: Andrea Conrath

Rhode Island

Department of Environmental Management

Specific: EPA authorized the use of propiconazole on blueberries to control mummyberry disease; May 24, 2002 to June 30, 2002. Contact: Barbara Madden

South Carolina

Clemson University

Specific: EPA authorized the use of fludioxonil on peaches, nectarines, and plums to control brown rot; May 1, 2002 to September 15, 2003. Contact: Andrew Ertman

South Dakota

Department of Agriculture

Specific: EPA authorized the use of sulfentrazone on chickpeas and dried peas to control kochia; April 9, 2002 to June 30, 2002. Contact: Andrew Ertman

EPA authorized the use of tebuconazole on wheat and barley to control Fusarium head blight; May 17, 2002 to August 31, 2002. Contact: Barbara Madden

Tennessee

Department of Agriculture

Specific: EPA authorized the use of sulfentrazone on lima beans and cowpeas to control hophornbeam copperleaf; May 30, 2002 to September 30, 2003. Contact: Barbara Madden

Texas

Department of Agriculture

Specific: EPA authorized the use of emamectin benzoate on cotton to control beet armyworm; May 13, 2002 to October 31, 2002. Contact: Andrea Conrath

EPA authorized the use of spinosad on alfalfa to control beet armyworms; May 17, 2002 to November 1, 2002. Contact: Andrew Ertman

EPA authorized the use of spinosad on peanuts to control lepidopteran larvae; June 15, 2002 to October 30, 2002. Contact: Andrew Ertman

Utah

Department of Agriculture

Specific: EPA authorized the use of myclobutanil on sugar beets to control powdery mildew; April 26, 2002 to September 15, 2002. Contact: Barbara Madden

Vermont

Department of Agriculture

Specific: EPA authorized the use of fenbuconazole on blueberry to control mummy berry disease; June 4, 2002 to September 1, 2002. Contact: Andrea Conrath

EPA authorized the use of tebufenozide on pasture to control armyworms; June 28, 2002 to October 31, 2002. This request was granted because IR-4 is currently conducting residue field trials for use of methoxyfenozide on pasture to control armyworms. However, the state was granted the use of tebufenozide instead of methoxyfenozide due to history of successful use of tebufenozide to control armyworm in pastures; and Dow AgroSciences anticipates only a limited supply of methoxyfenozide would be available to treat pastures for the 2002 growing season. Contact: Barbara Madden

Virginia

Department of Agriculture and Consumer Services

Specific: EPA authorized the use of fomesafen on snap beans to control various weed species; April 1, 2002 to September 20, 2002. Contact: Andrea Conrath

EPA authorized the use of terbacil on watermelons to control broadleaf weeds; April 4, 2002 to July 10, 2002. Contact: Dan Rosenblatt

EPA authorized the use of s-metolachlor on spinach to control weeds; April 4, 2002 to December 31, 2002. Contact: Andrew Ertman

EPA authorized the use of coumaphos in beehives to control varroa mites and small hive beetles; April 5, 2002 to February 1, 2003. Contact: Barbara Madden

EPA authorized the use of imidacloprid on peaches, nectarines and apricots to control aphids; April 9, 2002 to October 1, 2002. Contact: Andrew Ertman

EPA authorized the use of halosulfuron-methyl on tomatoes to control purple nutsedge and yellow nutsedge; June 19, 2002 to June 18, 2003. Contact: Barbara Madden

Washington

Department of Agriculture

EPA authorized the use of thiabendazole on lentils to control Ascochyta blight; April 10, 2002 to June 1, 2002. Contact: Andrea Conrath

EPA authorized the use of halosulfuron-methyl on asparagus to control yellow nutsedge; April 25, 2002 to July 15, 2002. Contact: Andrew Ertman

Specific: EPA authorized the use of cyprodinil and fludioxonil on caneberries to control gray mold; May 1, 2002 to September 15, 2002. Contact: Libby Pemberton

EPA authorized the use of triazamate on true fir Christmas trees to control root aphids; May 9, 2002 to October 31, 2002. Contact: Barbara Madden

EPA authorized the use of fluroxypyr on sweet corn and field corn to control volunteer potatoes; May 13, 2002 to August 1, 2002. Contact: Andrew Ertman

EPA authorized the use of fenpyroximate on hops to control two-spotted spider mites; June 11, 2002 to September 15, 2002. Contact: Andrea Conrath

EPA authorized the use of propiconazole on cranberry to control cotton ball disease; June 14, 2002 to July 31, 2002. Contact: Andrea Conrath

EPA authorized the use of tebuconazole on hops to control powdery mildew; June 15, 2002 to September 22, 2002. Contact: Barbara Madden

EPA authorized the use of clopyralid on canola to control Canada thistle; June 25, 2002 to July 31, 2002. Contact: Libby Pemberton

West Virginia

Department of Agriculture

Specific: EPA authorized the use of imidacloprid on peaches and nectarines to control aphids; April 9, 2002 to November 30, 2002. Contact: Andrew Ertman

EPA authorized the use of coumaphos in beehives to control varroa mites and small hive beetles; June 17, 2002 to February 1, 2003. Contact: Barbara Madden

Wisconsin

Department of Agriculture, Trade, and Consumer Protection

Specific: EPA authorized the use of dimethomorph on cucumbers and pumpkins to control Phytophthora capsici; April 10, 2002 to September 30, 2002. Contact: Libby Pemberton

EPA authorized the use of sulfentrazone on horseradish to control broadleaf weeds; April 15, 2002 to July 15, 2002. Contact: Andrew Ertman

EPA authorized the use of sulfentrazone on strawberries to control common groundsel; June 20, 2002 to December 15, 2002. Contact: Barbara Madden

Wyoming

Department of Agriculture

Specific: EPA authorized the use of lambda-cyhalothrin on barley to control Russian wheat aphids; May 22, 2002 to July 31, 2002. Contact: Andrew Ertman

B. Federal Departments and Agencies

Agriculture Department

Animal and Plant Health Inspector Service

Crisis: On April 9, 2002, for the use of sodium carbonate, sodium hydroxide or sodium hypochlorite on various items including but not limited to aircraft surfaces, semen containers, regulated garbage, laboratory buildings, biological safety cabinets, animal isolation rooms, necropsy suites, and ancillary equipment for the control of exotic animal disease pathogens in various locations throughout the United States. These programs are expected to end on June 21, 2005. Contact: Barbara Madden

On April 25, 2002, for the use of potassium peroxymonosulfate and sodium chloride on clothing and various equipment to control avian influenza. This program is expected to end on May 8, 2005. Contact: Libby Pemberton

Quarantine: EPA authorized the use of sodium carbonate, sodium hydroxide or sodium hypochlorite on various items including but not limited to aircraft surfaces, semen containers, regulated garbage, laboratory buildings, biological safety cabinets, animal isolation rooms, necropsy suites, and ancillary equipment for the control of exotic animal disease pathogens in various locations throughout the United States; June 21, 2002, to June 21, 2005. Contact: Barbara Madden

List of Subjects

Environmental protection, Pesticides and pest.

Dated: July 25, 2002.
Peter Caulkins,
Acting Director, Registration Division, Office of Pesticide Programs.

[FR Doc. 02-19802 Filed 8-6-02; 8:45 am]

BILLING CODE 6560-50-S